DEPARTMENT OF ENERGY

Federal Energy Regulatory Commission

Notice of Attendance at the Southwest Power Pool, Inc. Regional State Committee Meeting, Quarterly Joint Stakeholder Meeting, and Members' Committee/Board of Directors' Meetings

The Federal Energy Regulatory Commission (Commission) hereby gives notice that Commissioners and members of their staff may attend the meetings of the Southwest Power Pool, Inc., Regional State Committee (RSC), Quarterly Joint Stakeholder Meeting, Special Meeting of Members and Members' Committee/Board of Directors (Board), as noted below. Their attendance is part of the Commission's ongoing outreach efforts.

The meetings will be held at the Hyatt Regency Aurora-Denver Conference Center, 13200 East 14th Place, Aurora, CO 80111. All meetings are Mountain Time.

SPP RSC and Quarterly Joint Stakeholder Meeting

May 6, 2024 (1:00 p.m.-5:00 p.m.)

Special Meeting of Members and Members' Committee/Board Meeting

May 7, 2024 (8:00 a.m.-3:00 p.m.)

The discussions may address matters at issue in the following proceedings:

Docket No. EL22-59, Tenaska Clear Creek Wind, LLC v. Southwest Power Pool, Inc. et al.

Docket No. EL22-65, Southwest Power Pool, Inc.

Docket No. EL22-89, Cage Ranch Solar I, LLC and Cage Ranch Solar II, LLC v. Southwest Power Pool, Inc.

Docket No. EL24-3, Missouri River Energy Services v. Southwest Power Pool, Inc.

Docket No. EL24-61, Montana-Dakota Utilities Company v. Midcontinent Independent System Operator, Inc. and Southwest Power Pool, Inc.

Docket No. EL24-85, Midcontinent Independent System Operator, Inc. v. Southwest Power Pool, Inc.

Docket No. EL24-96, Sierra Club, Natural Resources Defense Council, Inc., and Sustainable FERC Project v. Southwest Power Pool, Inc.

Docket No. ER16-1341, Southwest Power Pool, Inc.

Docket No. ER18-194, Southwest Power Pool, Inc.

Docket No. ER18-195, Southwest Power Pool, Inc.

Docket No. ER18-2358, Southwest Power Pool, Inc.

Docket No. ER20-1796, Entergy Arkansas, LLC

Docket No. ER20-2040, Southwest Power Pool, Inc.

Docket No. ER20-2041, Southwest Power Pool, Inc.

Docket No. ER20-2042, Southwest Power Pool, Inc.

Docket No. ER20-2044, Southwest Power Pool, Inc.

Docket No. ER22-1525, Southwest Power Pool, Inc.

Docket No. ER22-1697, Southwest Power Pool, Inc.

Docket No. ER22-1846, Southwest Power Pool, Inc.

Docket No. ER22-1986, Basin Electric Power Cooperative and North Iowa Municipal Electric Cooperative

Docket No. ER22-2339, Southwest Power Pool, Inc.

Docket No. ER24-289, Southwest Power Pool, Inc.

Docket No. ER24-708, Transource Oklahoma, LLC and Southwest Power Pool, Inc.

Docket No. ER24-1201, Southwest Power Pool, Inc.

Docket No. ER24-1221, Southwest Power Pool, Inc.

Docket No. ER24-1317, Southwest Power Pool, Inc.

Docket No. ER24-1362, Southwest Power Pool, Inc.

Docket No. ER24-1431, Southwestern Public Service Company

Docket No. ER24-1432, Southwest Power Pool, Inc.

Docket No. ER24-1452, Southwest Power Pool, Inc.

Docket No. ER24-1497, Southwest Power Pool, Inc.

Docket No. ER24-1583, Southwest Power Pool, Inc.

Docket No. ER24-1586, Midcontinent Independent System Operator, Inc.

Docket No. ER24-1606, Sol Systems, LLC

Docket No. ER24-1610, Basin Electric Power Cooperative

Docket No. ER24-1658, Southwest Power Pool, Inc.

Docket No. ER24-1729, Upper Missouri G&T Electric Cooperative Inc.

Docket No. ER24-1754, Southwest Power Pool, Inc.

Docket No. ER24-1765, Southwest Power Pool, Inc.

Docket No. ER24-1775, Southwest Power Pool, Inc.

Docket No. ER24-1827, Southwest Power Pool, Inc.

Docket No. ER24-1835, Southwest Power Pool, Inc.

Docket No. ER24-1855, Southwest Power Pool, Inc.

The meetings are open to the public by teleconference. Registration for the teleconference and additional information are available at www.spp.org.

For more information, contact Patrick Clarey, Office of Energy Market Regulation, Federal Energy Regulatory Commission at (317) 249-5937 or patrick.clarey@ferc.gov.

Dated: April 30, 2024.
Debbie-Anne A. Reese,
Acting Secretary.

[FR Doc. 2024-09833 Filed 5-6-24; 8:45 am]

BILLING CODE 6717-01-P